DEPARTMENT OF LABOR

Mine Safety and Health Administration

[OMB Control No. 1219-0151]

Proposed Extension of Information Collection; Cleanup Program for Accumulations of Coal and Float Coal Dusts, Loose Coal, and Other Combustibles

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Cleanup Program for Accumulations of Coal and Float Coal Dusts, Loose Coal, and Other Combustibles.

DATES: All comments must be received on or before May 17, 2016.

ADDRESSES: Comments concerning the information collection requirements of this notice may be sent by any of the methods listed below.

• Federal E-Rulemaking Portal:http://www.regulations.gov. Follow the on-line instructions for submitting comments for docket number MSHA-2016-0004.

• Regular Mail: Send comments to USDOL-MSHA, Office of Standards, Regulations, and Variances, 201 12th Street South, Suite 4E401, Arlington, VA 22202-5452.

• Hand Delivery: USDOL-Mine Safety and Health Administration, 201 12th Street South, Suite 4E401, Arlington, VA 22202-5452. Sign in at the receptionist's desk on the 4th floor via the East elevator.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

A program for regular cleanup and removal of accumulations of coal and float coal dusts, loose coal, and other combustibles is essential to protect miners from explosions. Effective and frequent rock dust application is necessary to protect miners from the potential of a float coal dust explosion or, if one occurs, to reduce its propagation. Section 75.400-2 requires that mine operators establish and maintain a “program for regular cleanup and removal of accumulations of coal and float coal dusts, loose coal, and other combustibles.” In addition, the cleanup program must be available to the Secretary or authorized representative.

II. Desired Focus of Comments

MSHA is soliciting comments concerning the proposed information collection related to Cleanup Program for Accumulations of Coal and Float Coal Dusts, Loose Coal, and Other Combustibles. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator.

Questions about the information collection requirements may be directed to the person listed in the FOR FURTHER INFORMATION CONTACT section of this notice.

III. Current Actions

This request for collection of information contains provisions for Cleanup Program for Accumulations of Coal and Float Coal Dusts, Loose Coal, and Other Combustibles. MSHA has updated the data with respect to the number of respondents, responses, burden hours, and burden costs supporting this information collection request.

Type of Review: Extension, without change, of a currently approved collection.

Agency: Mine Safety and Health Administration.

OMB Number: 1219-0151.

Affected Public: Business or other for-profit.

Number of Respondents: 322.

Frequency: On occasion.

Number of Responses: 290.

Annual Burden Hours: 422 hours.

Annual Respondent or Recordkeeper Cost: $0.

Comments submitted in response to this notice will be summarized and included in the request for Office of Management and Budget approval of the information collection request; they will also become a matter of public record.

Sheila McConnell,
Certifying Officer.

[FR Doc. 2016-06133 Filed 3-17-16; 8:45 am]

BILLING CODE 4510-43-P